DEPARTMENT OF LABOR

Agency Information Collection Activities: Extension of a Currently Approved Information Collection With Non-Substantive Changes; Comment Request

AGENCY: Employment and Training Administration.

ACTION: 60-day notice of information collection under review: Form ETA-750, Application for Alien Employment Certification; OMB Control No. 1205-0015.

SUMMARY: The Department of Labor (Department), as part of its continuing effort to reduce paperwork and respondent burden, conducts a pre-clearance consultation program to provide the general public and Federal agencies with an opportunity to comment on proposed and/or continuing collections of information in accordance with the Paperwork Reduction Act of 1995. 44 U.S.C. 3506(c)(2)(A). This program helps to ensure that requested data can be provided in the desired format, reporting burden (time and financial resources) is minimized, collection instruments are clearly understood, and the impact of collection requirements on respondents can be properly assessed. Currently, the Employment and Training Administration is soliciting comments concerning Form ETA 750 Application for Alien Employment Certification. A copy of the proposed information collection request can be obtained by contacting the office listed below in the addressee section of this notice.

DATES: Written comments must be submitted to the office listed in the addressee section below on or before October 19, 2010.

ADDRESSES: William L. Carlson, Administrator, Office of Foreign Labor Certification, U.S. Department of Labor, Room C4312, 200 Constitution Ave., NW., Washington, DC 20210; by phone at (202) 693-3010 (this is not a toll-free number); by fax at (202) 693-2768; or by e-mail at ETA.OFLC.Forms@dol.gov subject line: Form ETA 750.

SUPPLEMENTARY INFORMATION: A. Background: The information collection is required by section 212(a)(5)(A)(iii) and section 214(c) of the Immigration and Nationality Act (INA). 8 U.S.C. 1182(a)(5)(A)(iii) and 1184(c) and 8 CFR 204.5(k)(4)(ii). The INA mandates the Secretary of Labor to certify that any alien seeking to enter the United States (U.S.) for the purpose of performing skilled or unskilled labor is not adversely affecting wages and working conditions of U.S. workers similarly employed and that there are not sufficient U.S. workers able, willing, and qualified to perform such skilled or unskilled labor. Many foreign professional athletes must qualify as skilled labor to gain temporary or permanent admission into the U.S. The Form ETA-750 is used to certify their admissibility. Part B of Form ETA-750 is also required by the Department of Homeland Security for aliens applying for the National Interest Waiver of the job offer requirement.

B. Review Focus: The Department is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

C. Current Actions: In order to meet its statutory responsibilities under the INA, the Department needs to extend an existing collection of information pertaining to employers seeking to import foreign labor. The form used to collect the information is utilized not only by the Department, but also by other federal agencies to meet the requirements of the INA. The Department uses the information collected in its temporary and permanent certification programs for the employment of alien professional athletes. The Department of Homeland Security, U.S. Citizenship and Immigration Services, utilizes the form for its National Interest Waiver program for employment-based immigration.

Type of Review: Extension.

Agency: Employment and Training Administration.

Title: Application for Alien Employment Certification.

OMB Number: 1205-0015.

Agency Number(s): Form ETA 750.

Recordkeeping: On occasion.

Affected Public: Individuals, Businesses or other for-profits and not-for-profit institutions.

Total Respondents: 13,035.

Estimated Total Burden Hours: 23,496 hours annually to the respondents and 46,725 hours annually to the Federal government.

Total Burden Cost (capital/startup): $0.

Total Burden Cost (operating/maintaining): $0 annually to respondents and $1,442,323 annually to the Federal government.

Comments submitted in response to this comment request will be summarized and/or included in the request for Office of Management and Budget approval of the information collection request; they will also become a matter of public record.

Dated: August 12, 2010.
Jane Oates,
Assistant Secretary, Employment and Training Administration.

[FR Doc. 2010-20648 Filed 8-19-10; 8:45 am]

BILLING CODE 4510-FP-P